DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of February 28, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
Kenai Peninsula Borough, Alaska and Incorporated Areas
Docket No.: FEMA-B-2351
City of Kenai | City Hall, 210 Fidalgo Avenue, Kenai, AK 99611.
City of Soldotna | City Hall, 177 North Birch Street, Soldotna, AK 99669.
Kenai Peninsula Borough | Donald E. Gilman River Center, 514 Funny River Road, Soldotna, AK 99669.
La Paz County, Arizona and Incorporated Areas
Docket No.: FEMA-B-2387
Unincorporated Areas of La Paz County | La Paz County Community Development, 1112 Joshua Avenue, #202, Parker, AZ 85344.
Linn County, Kansas and Incorporated Areas
Docket No.: FEMA-B-2385
City of Blue Mound | City Hall, 411 East Main Street, Blue Mound, KS 66010.
City of La Cygne | City Hall, 206 North Commercial Street, La Cygne, KS 66040.
City of Linn Valley | City Hall, 22412 East 2400 Road, Linn Valley, KS 66040.
City of Mound City | City Hall, 112 South 2nd Street, Mound City, KS 66056.
City of Parker | City Hall, 314 West Main Street, Parker, KS 66072.
City of Pleasanton | City Hall, 1608 Laurel Street, Pleasanton, KS 66075.
City of Prescott | City Hall, 202 West 4th Street, Prescott, KS 66767.
Unincorporated Areas of Linn County | Linn County Planning and Zoning, 306 Main Street, Mound City, KS 66056.
Bath County, Kentucky and Incorporated Areas
Docket No.: FEMA-B-2333
Unincorporated Areas of Bath County | Bath County Emergency Management Office, 19 East Main Street, Owingsville, KY 40360.
Bourbon County, Kentucky and Incorporated Areas
Docket No.: FEMA-B-2333
City of Millersburg | City Hall, 1113 Main Street, Millersburg, KY 40348.
City of North Middletown | City Office, 3287 North Middletown Road, North Middletown, KY 40357.
City of Paris | Municipal Center, 525 High Street, Paris, KY 40361
Unincorporated Areas of Bourbon County | City of Paris Municipal Center, 525 High Street, Paris, KY 40361.
Clark County, Kentucky and Incorporated Areas
Docket No.: FEMA-B-2333
City of Winchester | City Hall, 32 Wall Street, Winchester, KY 40391.
Unincorporated Areas of Clark County | Winchester City Hall, 32 Wall Street, Winchester, KY 40391.
Grant County, Kentucky and Incorporated Areas
Docket No.: FEMA-B-2346
City of Williamstown | Grant County Courthouse, 101 North Main Street, Williamstown, KY 41097.
Unincorporated Areas of Grant County | Grant County Courthouse, 101 North Main Street, Williamstown, KY 41097.
Harrison County, Kentucky and Incorporated Areas
Docket No.: FEMA-B-2366
City of Berry | Harrison County Courthouse, 111 South Main Street, Cynthiana, KY 41031.
City of Cynthiana | Harrison County Courthouse, 111 South Main Street, Cynthiana, KY 41031.
Unincorporated Areas of Harrison County | Harrison County Courthouse, 111 South Main Street, Cynthiana, KY 41031.
Montgomery County, Kentucky and Incorporated Areas
Docket No.: FEMA-B-2333
City of Mount Sterling | City Hall, 33 North Maysville Street, Mount Sterling, KY 40353.
Unincorporated Areas of Montgomery County | Montgomery County Courthouse Annex, 44 West Main Street, Mount Sterling, KY 40353.
Nicholas County, Kentucky and Incorporated Areas
Docket No.: FEMA-B-2333
City of Carlisle | City Hall, 107 East Chestnut Street, Carlisle, KY 40311.
Unincorporated Areas of Nicholas County | Nicholas County Courthouse, 125 East Main Street, Carlisle, KY 40311.
Beadle County, South Dakota and Incorporated Areas
Docket No.: FEMA-B-2362
City of Huron | City Hall, 239 Wisconsin Avenue SW, Huron, SD 57350.
City of Wessington | City Hall, 260 South Wessington Street, Wessington, SD 57381.
Town of Broadland | Beadle County Courthouse, 450 3rd Street SW, Huron, SD 57350.
Town of Cavour | Town Hall, 262 Albert Street, Cavour, SD 57324.
Town of Virgil | Beadle County Courthouse, 450 3rd Street SW, Huron, SD 57350.
Town of Wolsey | Beadle County Courthouse, 450 3rd Street SW, Huron, SD 57350.
Unincorporated Areas of Beadle County | Beadle County Courthouse, 450 3rd Street SW, Huron, SD 57350.
Pierce County, Washington and Incorporated Areas
Docket No.: FEMA-B-2363
City of Roy | City Hall, 216 McNaught Street S, Roy, WA 98580.
Unincorporated Areas of Pierce County | Pierce County Tacoma Mall Plaza, 2702 South 42nd Street, Suite 201, Tacoma, WA 98409.

[FR Doc. 2024-27541 Filed 11-22-24; 8:45 am]

BILLING CODE 9110-12-P